DEPARTMENT OF INTERIOR

National Park Service

[NPS-WASO-NRSS-EQD-SSB-20006; PPWONRADE3, PPMRSNR1Y.NM0000]

Proposed Information Collection: National Park Service Centennial National Household Survey

AGENCY: National Park Service, Interior.

ACTION: Notice; request for comments.

SUMMARY: We (National Park Service) will ask the Office of Management and Budget (OMB) to approve an information collection (IC) concerning a national household survey that will be used to help determine the perceptions of the American public regarding the national park system. The collection will include no more than 40 cognitive interviews to refine survey questions and a final survey instrument based on the findings from those interviews. As required by the Paperwork Reduction Act of 1995 and as part of our continuing efforts to reduce paperwork and respondent burden, we invite the general public and other federal agencies to take this opportunity to comment on this IC. We may not conduct or sponsor, and a person is not required to respond to, a collection of information unless it displays a currently valid OMB Control Number.

DATES: To ensure that your comments on this IC are considered, we must receive them on or before February 22, 2016.

ADDRESSES: Direct all written comments on this IC to Phadrea Ponds, Information Collection Coordinator, National Park Service, 1201 Oakridge Drive, Fort Collins, CO 80525 (mail); or pponds@nps.gov (email). Please reference Information Collection 1024-0254—National Household Survey in the subject line.

FOR FURTHER INFORMATION CONTACT: Bret Meldrum, Chief, Social Science Program, National Park Service, 1201 Oakridge Drive, Fort Collins, CO 80525 (mail); or bret_Meldrum@nps.gov (email); and Steve Lawson, Senior Director, Public Plans Planning and Management, RSG, 55 Railroad Row, White River Junction, VT 05001 (mail); or slawson@rsginc.com (email).

SUPPLEMENTARY INFORMATION:

I. Abstract

On August 25, 2006—the 90th anniversary of the National Park Service (NPS)—Secretary of the Interior Dirk Kempthorne launched the National Park Centennial Initiative to prepare national parks for another century of conservation, preservation and enjoyment. Since then we have asked citizens, park partners, experts and other stakeholders what they envisioned for a second century of national parks. In celebration of our 100th anniversary in 2016, and to keep up with the initiative, we are proposing a national household survey to assess the quality of services available to the American public provided by the national parks. This survey will be used to assess the values and perceptions of both visitors and non-visitors needed to understand, sustain and enhance the relevancy of the national park system in an increasingly multicultural society.

We acknowledge that there are traditional in-park surveys of visitors at selected National Parks within the system each year; however, these park specific surveys cannot provide the baseline information on a national level needed to capture the points of view of both visitors and non-visitors to national parks.

We will pre-test the survey questions by conducting cognitive interviews of no more than 40 people in order to test and refine the final survey instrument. This will be a nationwide telephone survey using a dual sampling frame to include random-digit dial (RDD) land line and cell phone numbers. The survey will also include five to seven questions that will be used to evaluate youth engagement. Parental consent will be required before interviewing children/teens between the ages of 12 to 17.

The information obtained from this collection will serve as a benchmark to describe the breadth of uses and patterns of involvement with agency offerings beyond traditional park visits that will extend into the next century.

II. Data

OMB Number: 1024-0254.

Title: National Park Service Centennial National Household Survey.

Type of Request: Reinstatement.

Affected Public: General public and individual households in the seven National Park Service administrative regions.

Respondent Obligation: Voluntary.

Frequency of Collection: One-time.

Estimated Number of Annual Responses: 3,540 (40 cognitive interviews and 3,500 completed telephone surveys).

Annual Burden Hours: 40 hours for cognitive interviews (10 minutes per interview) and 1,050 hours for telephone surveys (18 minutes per survey)—Total 1,090 hours.

Estimated Reporting and Recordkeeping “Non-Hour Cost” Burden: We have not identified any “non-hour cost” burdens associated with this collection of information.

III. Request for Comments

We invite comments concerning this information collection on:

• The practical utility of the information being gathered;

• The accuracy of the burden for this collection of information;

• Ways to enhance the quality, utility, and clarity of the information to be collected; and

• Ways to minimize the burden of the collection of information on respondents.

Please note that the comments submitted in response to this notice are a matter of public record. We will include or summarize each comment in our request to OMB to approve this IC. Before including your address, phone number, email address, or other personal identifying information in your comment, you should be aware that your entire comment, including your personal identifying information, may be made publicly available at any time. While you can ask OMB in your comment to withhold your personal identifying information from public review, we cannot guarantee that we will be to do so.

Dated: December 18, 2015.
Madonna L. Baucum,
Information Collection Clearance Officer, National Park Service.

[FR Doc. 2015-32420 Filed 12-23-15; 8:45 am]

BILLING CODE 4310-EH-P